FEDERAL TRADE COMMISSION

[File No. 152 3159]

General Workings Inc. (Also Doing Business as Vulcun); Analysis of Proposed Consent Order To Aid Public Comment

AGENCY: Federal Trade Commission.

ACTION: Proposed consent agreement.

SUMMARY: The consent agreement in this matter settles alleged violations of federal law prohibiting unfair or deceptive acts or practices. The attached Analysis to Aid Public Comment describes both the allegations in the draft complaint and the terms of the consent order—embodied in the consent agreement—that would settle these allegations.

DATES: Comments must be received on or before March 8, 2016.

ADDRESSES: Interested parties may file a comment at https://ftcpublic.commentworks.com/ftc/vulcunconsent online or on paper, by following the instructions in the Request for Comment part of the SUPPLEMENTARY INFORMATION section below. Write “General Workings Inc. also doing business as Vulcun—Consent Agreement; File No. 152-3159” on your comment and file your comment online at https://ftcpublic.commentworks.com/ftc/vulcunconsent by following the instructions on the web-based form. If you prefer to file your comment on paper, write “General Workings Inc. also doing business as Vulcun—Consent Agreement; File No. 152-3159” on your comment and on the envelope, and mail your comment to the following address: Federal Trade Commission, Office of the Secretary, 600 Pennsylvania Avenue NW., Suite CC-5610 (Annex D), Washington, DC 20580, or deliver your comment to the following address: Federal Trade Commission, Office of the Secretary, Constitution Center, 400 7th Street SW., 5th Floor, Suite 5610 (Annex D), Washington, DC 20024.

FOR FURTHER INFORMATION CONTACT: Jacob Snow (415) 848-5175 or Alexander Reicher (415) 848-5198, FTC Western Region, San Francisco, 901 Market Street, Suite 570, San Francisco, CA 94103.

SUPPLEMENTARY INFORMATION: Pursuant to Section 6(f) of the Federal Trade Commission Act, 15 U.S.C. 46(f), and FTC Rule 2.34, 16 CFR 2.34, notice is hereby given that the above-captioned consent agreement containing consent order to cease and desist, having been filed with and accepted, subject to final approval, by the Commission, has been placed on the public record for a period of thirty (30) days. The following Analysis to Aid Public Comment describes the terms of the consent agreement, and the allegations in the complaint. An electronic copy of the full text of the consent agreement package can be obtained from the FTC Home Page (for February 5, 2016), on the World Wide Web at: http://www.ftc.gov/os/actions.shtm.

You can file a comment online or on paper. For the Commission to consider your comment, we must receive it on or before March 8, 2016. Write “General Workings Inc. also doing business as Vulcun—Consent Agreement; File No. 152-3159” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which . . . is privileged or confidential,” as discussed in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).¹ Your comment will be kept confidential only if the FTC General Counsel, in his or her sole discretion, grants your request in accordance with the law and the public interest.

¹ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/vulcunconsent by following the instructions on the web-based form. If this Notice appears at http://www.regulations.gov/#!home, you also may file a comment through that Web site.

If you file your comment on paper, write “General Workings Inc. also doing business as Vulcun—Consent Agreement; File No. 152-3159” on your comment and on the envelope, and mail your comment to the following address: Federal Trade Commission, Office of the Secretary, 600 Pennsylvania Avenue NW., Suite CC-5610 (Annex D), Washington, DC 20580, or deliver your comment to the following address: Federal Trade Commission, Office of the Secretary, Constitution Center, 400 7th Street SW., 5th Floor, Suite 5610 (Annex D), Washington, DC 20024. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before March 8, 2016. You can find more information, including routine uses permitted by the Privacy Act, in the Commission's privacy policy, at http://www.ftc.gov/ftc/privacy.htm.

Analysis of Proposed Consent Order To Aid Public Comment

The Federal Trade Commission (“FTC” or “Commission”) has accepted, subject to final approval, an agreement containing consent order from General Workings Inc., Ali Moiz, and Murtaza Hussain (collectively “Respondents”).

The proposed consent order has been placed on the public record for thirty (30) days for receipt of comments by interested persons. Comments received during this period will become part of the public record. After thirty (30) days, the Commission will again review the agreement and the comments received, and will decide whether it should withdraw from the agreement and take appropriate action or make final the agreement's proposed order.

Respondent General Workings Inc., also doing business as Vulcun, is a Delaware corporation with its principal office or place of business in San Francisco, California. Respondents Ali Moiz and Murtaza Hussain are founders and officers of Vulcun. The Commission's complaint alleges that Respondents installed software, including Chrome browser extensions and mobile apps, onto users' desktops and mobile devices without adequately disclosing to users that the software would be installed. Google offers a web browser, Chrome, as a free download for desktop computer and mobile operating systems. The desktop-computer version of Chrome allows users to install “browser extensions,” which are software programs that can modify and extend Chrome's functionality. Respondents' conduct had two parts. First, Respondents acquired a popular browser-based game called Running Fred and replaced it entirely with their own software program, called Weekly Android Apps, on users' desktops. Users of Running Fred were not informed that the game had been replaced. Second, Weekly Android Apps contained code that would install, again without adequate disclosure to users, apps on user's mobile devices.

The proposed consent order contains provisions designed to prevent Respondents from engaging in similar acts or practices in the future.

Part I of the proposed order prohibits Respondents from misrepresenting certain aspects of any browser extension, Web site, web service, mobile app, or any other product or service they offer or operate. Specifically, Respondents are prohibited from misrepresenting: The existence of certain endorsements; the nature of their products and services; the installation, download, usage, review, or endorsement statistics associated with their products and services; the press coverage of their products and services; their information collection, usage, disclosure, and sharing practices; the extent of user control over information about individual consumers; the purpose of collecting, using, disclosing, or sharing information about individual consumers; and the extent to which Respondents protect the privacy, confidentiality, security, and integrity of information collected from or about consumers.

Part II of the proposed order requires Respondents to clearly and conspicuously disclose the types of information their products and services will access, how that information will be used, and the nature of any changes to Respondents' products and services. The order also requires Respondents to display built-in permission notices or approvals, and to obtain consumer's express affirmative consent prior to installation or material changes of any product or service.

Part III of the proposed order requires Respondents to delete certain information collected about individual consumers within ten days of entry of the order.

Part IV of the proposed order contains recordkeeping requirements for advertisements and substantiation relevant to representations covered by Parts I through III of the order.

Parts V, VI, VII, and VIII of the proposed order require Respondents to: Deliver a copy of the order to certain personnel who have responsibilities with respect to the subject matter of the order; notify the Commission of changes in corporate structure that might affect compliance obligations under the order; notify the Commission of changes in the employment of Respondents Moiz and Hussain; and file compliance reports with the Commission.

Part IX of the proposed order provides that the order will terminate after twenty (20) years, with certain exceptions.

The purpose of this analysis is to facilitate public comment on the proposed order, and it is not intended to constitute an official interpretation of the complaint or proposed order, or to modify the proposed order's terms in any way.

By direction of the Commission.
Donald S. Clark,
Secretary.

[FR Doc. 2016-02769 Filed 2-10-16; 8:45 am]

BILLING CODE 6750-01-P